SMALL BUSINESS ADMINISTRATION

Declaration of Disaster #3464, State of Mississippi

As a result of the President's major disaster declaration on November 14, 2002, I find that Clay, Lowndes, Monroe, Noxubee and Oktibbeha Counties in the State of Mississippi constitute a disaster area due to damages caused by severe storms and tornadoes occurring on November 10 through November 11, 2003. Applications for loans for physical damage as a result of this disaster may be filed until the close of business on January 13, 2003, and for economic injury until the close of business on August 14, 2003, at the address listed below or other locally announced locations: U.S. Small Business Administration, Disaster Area 2 Office, One Baltimore Place, Suite 300, Atlanta, GA 30308.

In addition, applications for economic injury loans from small businesses located in the following contiguous counties may be filed until the specified date at the above location: Chickasaw, Choctaw, Itawamba, Kemper, Lee, Webster and Winston in the State of Mississippi; Marion, Lamar, Pickens and Sumter counties in the State of Alabama.

The interest rates are:

| Percent
For Physical Damage:
Homeowners with credit available elsewhere | 5.875
Homeowners without credit available elsewhere | 2.937
Businesses with credit available elsewhere | 6.648
Businesses and non-profit organizations without credit available elsewhere | 3.324
Others (including non-profit organizations) with credit available elsewhere | 5.500
For Economic Injury:
Businesses and small agricultural cooperatives without credit available elsewhere | 3.324

The number assigned to this disaster for physical damage is 346412. For economic injury the number is 9S5900 for Mississippi; and 9S6000 for Alabama.

(Catalog of Federal Domestic Assistance Program Nos. 59002 and 59008).
Dated: November 15, 2002.
S. George Camp,
Acting Associate Administrator for Disaster Assistance.

[FR Doc. 02-29650 Filed 11-20-02; 8:45 am]

BILLING CODE 8025-01-P